DEPARTMENT OF COMMERCE

National Oceanic and Atmospheric Admiistration

[RTID 0648-XC622]

Endangered and Threatened Species; Take of Anadromous Fish

AGENCY: National Marine Fisheries Service (NMFS), National Oceanic and Atmospheric Administration (NOAA), Commerce.

ACTION: Notice; availability of a Proposed Evaluation and Pending Determination and a draft Supplemental Environmental Assessment; request for comments.

SUMMARY: Notice is hereby given that the Sauk-Suiattle Indian Tribe, the Swinomish Indian Tribal Community, the Upper Skagit Indian Tribe, and the Washington Department of Fish and Wildlife have jointly provided a resource management plan (RMP) to NMFS pursuant to the limitation on take prohibitions for actions conducted for salmon and steelhead promulgated under the Endangered Species Act (ESA). The Skagit River Steelhead Fishery RMP proposes to manage the harvest of natural-origin Skagit River steelhead as an independent steelhead management unit within the ESA-listed Puget Sound steelhead distinct population segment (DPS), for harvest purposes. The RMP proposes to implement these fisheries pursuant to U.S. v. Washington.

DATES: Comments must be received at the appropriate address (see ADDRESSES) no later than 5 p.m. Pacific time on January 23, 2023. Comments received after this date may not be accepted.

ADDRESSES: Comments may be submitted by email. The mailbox address for providing email comments is: salmon.harvest.comments@noaa.gov. In the subject line of the email, include the following identifier: “Comments on Skagit River Steelhead Fishery RMP.” The documents available for public review and comment can be found at: https://www.fisheries.noaa.gov/action/skagit-river-steelhead-fishery-joint-resource-management-plan.

FOR FURTHER INFORMATION CONTACT: James Dixon at 360-522-3673, or via email at james.dixon@noaa.gov.

SUPPLEMENTARY INFORMATION:

ESA-Listed Species Covered in This Notice

Puget Sound Steelhead (Oncorhynchus mykiss): threatened, naturally produced.

Background

The Sauk-Suiattle Indian Tribe, the Swinomish Indian Tribal Community, the Upper Skagit Indian Tribe, and the Washington Department of Fish and Wildlife have jointly submitted a Skagit River steelhead fishery RMP to NMFS pursuant to the limitation on take prohibitions for actions conducted under Limit 6 of the 4(d) Rule for salmon and steelhead promulgated under the ESA (73 FR 55451, September 25, 2008). The RMP was submitted in December of 2021. The RMP provides the management framework for the harvest of Skagit River natural-origin steelhead in the Skagit River terminal area. NMFS has prepared a Proposed Evaluation and Pending Determination (PEPD) as to whether the RMP meets the criteria under Limit 6 of the 4(d) Rule, and as to whether implementation of the RMP will appreciably reduce the likelihood of survival and recovery of ESA-listed Puget Sound steelhead, and a supplemental Environmental Assessment (EA) on the NMFS determination. By this notice, NMFS is inviting interested persons to comment on either or both documents.

As required by the ESA 4(d) Rule (65 FR 42422, July 10, 2000, as updated in 70 FR 37160, June 28, 2005), the Secretary is seeking public comment on this PEPD as to whether the RMP meets the criteria under Limit 6 of the 4(d) Rule and as to whether implementation of the RMP will appreciably reduce the likelihood of survival and recovery of ESA-listed Puget Sound steelhead. Prior to making a final determination, NMFS will take comments on its pending determination (50 CFR 223.204(b)(3)).

Authority: 16 U.S.C. 1531 et seq.; 16 U.S.C. 742a et seq.

Angela Somma,
Chief, Endangered Species Division, Office of Protected Resources, National Marine Fisheries Service.

[FR Doc. 2022-28021 Filed 12-22-22; 8:45 am]

BILLING CODE 3510-22-P